DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the 2003 Science and Technology Review. The purpose of the meeting is to allow the SAB leadership to discuss S&T reviews. Because classified and contractor proprietary information will be discussed, this meeting will be closed to the public.

DATES: December 4, 2003.

ADDRESSES: Pentagon, AF/SB Conference Room, 4D982, Washington, DC 20330.

FOR FURTHER INFORMATION CONTACT: Major Dwight Pavek, Air Force Scientific Advisory Board Secretariat, 1180 Air Force Pentagon, Rm 5D982, Washington, DC 20330-1180, (703) 697-4811.

Pamela D. Fitzgerald,
Air Force Federal Register Liaison Officer.

[FR Doc. 03-28955 Filed 11-19-03; 8:45 am]

BILLING CODE 5001-05-P